NATIONAL COMMUNICATIONS SYSTEM

Telecommunications Service Priority System Oversight Committee

AGENCY: National Communications System (NCS).

ACTION: Notice of meeting.

A meeting of the Telecommunications Service Priority (TSP) System Oversight Committee will convene Wednesday, May 8, 2002 from 9 a.m. to 12 p.m. The meeting will be held at 701 South Court House Road, Arlington, VA in the NCS conference room on the 2nd floor.

—TSP Program Update

—Report on TSP Working Group Activities

—Review/Renewal of TSP OC Charter

Anyone interested in attending or presenting additional information to the Committee, please contact Deborah Bea, Office of Priority Telecommunications, (703) 607-4933.

Peter M. Fonash,
Certifying Officer, National Communications System.

[FR Doc. 02-7743 Filed 3-29-02; 8:45 am]

BILLING CODE 5001-08-M